FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Review of Local Mitigation Planning Initiatives and practices.

Type of Information Collection: New.

Abstract: The data collected from the survey will support the Federal Insurance and Mitigation Administration and the Office of the Inspector General in conducting a national review of local mitigation planning. The goal of the survey is to determine the extent to which communities are formulating, adopting and adhering to local mitigation plans, and to review the overall quality of these plans. Additional goals are to document the “best practices” and identify characteristics of successful planning programs at the local level.

Affected Public: State, local or tribal governments.

Estimated Annual Burden Hours: 188.

Frequency of Responses: Annually.

Estimated Annual Costs to Respondents: $30.00 per respondent.

Comments: Interested persons are invited to submit written comments on the proposed information collection to the Desk Officer for the Federal Emergency Management Agency, Office of Information and Regulatory Affairs, Office of Management and Budget, Washington, DC 20503 within 30 days from the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW, Room 316, Washington, DC 20472. Telephone number (202) 646-2625, Fax number (202) 646-3347, or e-mail address: muriel.anderson@ fema.gov.

Dated: September 28, 2001.
Reginald Trujillo,
Branch Chief, Program Services and Systems Branch, Facilities Management and Services Division, Administration and Resource Planning Directorate.

[FR Doc. 01-29869 Filed 11-30-01; 8:45 am]

BILLING CODE 6718-01-P